NATIONAL TRANSPORTATION SAFETY BOARD

Sunshine Act Meeting

Time: 9:30 a.m., Wednesday, April 7, 2004.

Place: NTSB Conference Center, 429 L'Enfant Plaza SW., Washington, DC 20594.

Status: The one item is Open to the public.

Matter To Be Considered:

7623—Highway Accident Report—15-Passenger Child Care Van Run-off-Road Accident in Memphis, Tennessee, on April 4, 2002.

News Media Contact:

Telephone: (202) 314-6100.

Individuals requesting specific accommodations should contact Ms. Carolyn Dargan at (202) 314-6305 by Friday, April 2, 2004.

The public may view the meeting via a live or archived webcast by accessing a link under “News & Events” on the NTSB Home page at www.ntsb.gov.

FOR FURTHER INFORMATION CONTACT: Vicky D'Onofrio, (202) 334-6410.

Dated: March 26, 2004.
Vicky D'Onofrio,
Federal Register Liaison Office.

[FR Doc. 04-7213 Filed 3-26-04; 1:36 pm]

BILLING CODE 7533-01-M